DEPARTMENT OF THE INTERIOR

Bureau of Land Management

[CA-350-1610-DR]

Notice of Availability of Record of Decision for the Alturas Resource Management Plan

AGENCY: Bureau of Land Management.

ACTION: Notice of availability.

SUMMARY: In accordance with the National Environmental Policy Act (NEPA), the Federal Land Policy and Management Act (FLPMA), and the Bureau of Land Management (BLM) policies, the BLM announces the availability of the Record of Decision (ROD)/Approved Resource Management Plan (RMP) for the Alturas Field Office. The California State Director has signed the ROD, which constitutes the final decision of the BLM and makes the Approved RMP effective immediately.

ADDRESSES: Copies of the ROD and RMP are available upon request from the Field Manager, Alturas Field Office, Bureau of Land Management, 708 West 12th Street Alturas, CA 96101, or via the internet at http://www.blm.gov/ca/st/en/prog/planning.html.

FOR FURTHER INFORMATION CONTACT: For further information contact Jeff Fontana, Public Affairs Officer, Bureau of Land Management, 2950 Riverside Dr., Susanville, CA 96130, telephone (530) 257-0456, or e-mail your request to: necarmp@ca.blm.gov.

SUPPLEMENTARY INFORMATION: The Alturas Field Office includes approximately 503,045 acres in northeastern California. The geographic area includes BLM-administered lands within the counties of Modoc, Lassen, Shasta, and Siskiyou, California. The Alturas RMP was developed in coordination with the Eagle Lake and Surprise Field Office RMPs to provide a consistent framework for managing public lands and resource uses in northeast California and far northwest Nevada. BLM officially initiated the planning process for the Draft Alturas Resource Management Plan (RMP) with publication of a Notice of Intent in the Federal Register on July 22, 2003 (Volume 68, Number 140). Issues related to resource management in the Alturas planning area were assembled during the scoping process consisting of public scoping meetings, field tours, socioeconomic workshops, and interactions with federal, state, tribal, and county collaborators.

The RMP describes management actions to meet desired resource conditions for vegetation communities, wildlife habitats, and cultural and visual resources. It also outlines actions for recreation, protection of sensitive natural and cultural resources, livestock grazing, wild and scenic rivers, guidance for energy and mineral development, land tenure adjustments, and other planning issues raised during the scoping process.

The Alturas RMP designated seven Areas of Critical Environmental Concern (ACECs): Ash Valley ACEC (1,322 acres); Timbered Crater (17,896 acres); Emigrant Trials (1,750 acres); Mountain Peaks (3,500 acres); Old-Growth Juniper (3,115 acres); Mount Dome (1,510 acres); and Yankee Jim/Likely Tablelands/Fitzhugh Creek (1,400 acres). The following types of resource use limitations apply to these ACECs: (1) New rights-of-way exclusion; (2) Visual Resource Management Class II; (3) Certain restrictions to energy and mineral development; and (4) Motorized travel permitted only on designated open routes.

The BLM's Draft Alturas RMP/Draft Environmental Impact Statement (EIS) (April 2006) presented five alternatives to help the BLM and interested parties understand the various ways of addressing issues in the region. Upon evaluation of the alternatives and associated impacts described in the Draft RMP/EIS and based on public and agency comments on that document, the BLM prepared the Alturas Proposed RMP and Final EIS which was released on June 15, 2007. The Proposed RMP is comprised of the preferred alternative identified in the Draft RMP/EIS with small changes as a result of comments received.

Two protest letters on the Alturas Proposed RMP were received and resolved by the BLM Director. The BLM determined that the Proposed Action, as described in the Proposed RMP and Final EIS, best meets the purpose and need for the project.

The Governor of the State of California in his letter dated September 17, 2007 stated, “Pursuant to 43 CFR 1603-2, and after consulting with affected State and Local agencies, the Governor's Office of Planning and Research (OPR) has not found any inconsistencies with any state or local plans, policies, or programs with regards to this [Proposed] Resource Management Plan.”

The decisions identifying designated routes of travel for motorized vehicles are implementation decisions and are appealable to the Interior Board of Land Appeals (IBLA) under 43 CFR part 4. These decisions are contained in Chapter 2.16.6 and shown on Map TRAVEL-2 of the RMP. Any party adversely affected by the BLM's decision(s) to identify, evaluate, define, delineate, and/or select specific routes as available for motorized use within designated areas of travel as set forth in the Alturas Resource Management Plan may appeal within 30 days of publication of this Notice of Availability.

The appeal must be filed with the Alturas Field Manager at the above listed address. Please consult 43 CFR part 4 for further information on the IBLA appeal process.

Tim Burke,
Alturas Field Office Manager.

[FR Doc. E8-9520 Filed 4-30-08; 8:45 am]

BILLING CODE 4310-40-P